DEPARTMENT OF HEALTH AND HUMAN SERVICES

Centers for Disease Control and Prevention

Advisory Councils or Committees; Delegation of Authority

Notice is hereby given that pursuant to section 222 of the Public Health Service Act [42 U.S.C. 217a], as amended, I have delegated to the Director, Centers for Disease Control and Prevention (CDC), authority to appoint temporary members to the National Institute for Occupational Safety and Health's Safety and Occupational Health Study Section (SOHSS).

These authorities shall be exercised under the Department's existing delegation of authority and policy on regulations. This authority must also be exercised in accordance with the Department's established policies, procedures, guidelines and regulations and with all other pertinent issuances.

This delegation became effective upon date of signature. In addition, I have affirmed and ratified any actions taken by the Director, CDC, or other CDC officials which involve the exercise of the authorities delegated herein prior to the effective date of this delegation.

Dated: June 7, 2016.
Sylvia M. Burwell,
Secretary.

[FR Doc. 2016-13995 Filed 6-13-16; 8:45 am]

BILLING CODE 4160-18-P